DEPARTMENT OF DEFENSE

Office of the Secretary

[Docket No. DoD-2007-DARS-0139]

Submission for OMB Review; Comment Request

ACTION: Notice.

The Department of Defense has submitted to OMB for clearance, the following proposal for collection of information under the provisions of the Paperwork Reduction Act (44 U.S.C. Chapter 35).

DATES: Consideration will be given to all comments received by January 22, 2008.

Title and OMB Number: Defense Federal Acquisition Regulation Supplement (DFARS) part 211, Describing Agency Needs, and related clauses in DFARS 252.211; OMB Control Number 0704-0389.

Type of Request: Extension.

Number of Respondents: 581.

Responses Per Respondent: 3.032.

Annual Responses: 1,762.

Average Burden Per Response: .978 hours.

Annual Burden Hours: 1,724.

Needs and Uses: This information collection permits offerors to propose alternatives to military preservation, packaging, or packing specifications. DoD uses the information in the offeror's proposal to determine if the alternate preservation, packaging, or packing will meet the Government's needs. In addition, this information collection permits offerors to propose Single Process Initiative (SPI) processes as alternatives to military or Federal specifications and standards cited in DoD solicitations for previously developed items. DoD uses the information in the offeror's proposal to verify Government acceptance of an SPI process as a valid replacement for a military or Federal specification or standard.

Affected Public: Business or other for-profit; not-for-profit institutions.

Frequency: On Occasion.

Respondent's Obligation: Required to obtain or retain benefits.

OMB Desk Officer: Ms. Susan Jennifer Haggerty. Written comments and recommendations on the proposed information collection should be sent to Ms. Haggerty at the Office of Management and Budget, Desk Officer for DoD, Room 10236, New Executive Office Building, Washington, DC 20503. You may also submit comments, identified by docket number and title, by the following method:

• Federal eRulemaking Portal: http://www.regulations.gov. Follow the instructions for submitting comments.

Instructions: All submissions received must include the agency name, docket number and title for this Federal Register document. The general policy for comments and other submissions from members of the public is to make these submissions available for public viewing on the Internet at http://www.regulations.gov as they are received without change, including any personal identifiers or contact information.

DOD Clearance Officer: Ms. Patricia Toppings. Written requests for copies of the information collection proposal should be sent to Ms. Toppings at WHS/ESD/Information Management Division, 1777 North Kent Street, RPN, Suite 11000, Arlington, VA 22209-2133.

Dated: December 14, 2007.
Patricia L. Toppings,
Alternate OSD Federal Register Liaison Officer, Department of Defense.

[FR Doc. E7-24828 Filed 12-20-07; 8:45 am]

BILLING CODE 5001-06-P